DEPARTMENT OF TRANSPORTATION

Federal Aviation Administration

14 CFR Part 39

[Docket No. FAA-2009-0993; Directorate Identifier 2009-NM-089-AD; Amendment 39-16229; AD 2010-06-05]

RIN 2120-AA64

Airworthiness Directives; Airbus Model A300 B4-2C, B4-103, and B4-203 Airplanes; and Model A300 B4-601, B4-603, B4-620, B4-622, B4-605R, and B4-622R Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

One A300-600 aeroplane operator reported that, during a routine inspection, the Right Hand frame 40 forward fitting between stringer 32 and stringer 33 was found cracked. The subject aeroplane had previously been modified in accordance with Airbus SB A300-57-6053 (Airbus Modification 10453).

This condition, if not corrected, could result in a deterioration of the structural integrity of the frame.

* * * * *

We are issuing this AD to require actions to correct the unsafe condition on these products.

DATES: This AD becomes effective April 15, 2010.

The Director of the Federal Register approved the incorporation by reference of certain publications listed in this AD as of April 15, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on October 28, 2009 (74 FR 55485). That NPRM proposed to correct an unsafe condition for the specified products. The MCAI states:

One A300-600 aeroplane operator reported that, during a routine inspection, the Right Hand frame 40 forward fitting between stringer 32 and stringer 33 was found cracked. The subject aeroplane had previously been modified in accordance with Airbus SB A300-57-6053 (Airbus Modification 10453).

This condition, if not corrected, could result in a deterioration of the structural integrity of the frame.

As no fatigue maintenance tasks (Inspection SB or Airworthiness Limitation Item) presently exist to inspect the affected area for aeroplanes having incorporated Airbus Modification 10453 preventively (without preliminary crack finding), Airbus has developed a new inspection [for cracking, and repair if necessary] to ensure structural integrity of the concerned area of frame 40.

* * * * *

You may obtain further information by examining the MCAI in the AD docket.

Comments

We gave the public the opportunity to participate in developing this AD. We considered the comment received.

Request To Increase Work Hours

FedEx Express states that it has determined that the inspection thresholds in the NPRM allow sufficient time to accomplish the proposed inspection during a scheduled maintenance check. FedEx Express adds that the number of work-hours and elapsed time necessary to accomplish the proposed inspections will not impact the overall span-time of its planned scheduled maintenance check, unless cracks are found. FedEx Express notes that if cracks are found, significant downtime of approximately 42 hours will be required to accomplish the corrective action. FedEx Express adds that it has already accomplished the inspections on five airplanes with no crack findings.

From these statements, we infer that FedEx Express is requesting that we revise the AD to include the work-hours necessary to repair any crack findings. We do not agree. The economic analysis of the AD is limited only to the cost of actions actually required by the rule. It does not consider the costs of “on-condition” actions (that is, actions needed to correct an unsafe condition such as cracking), because, regardless of AD direction, those actions would be required to correct an unsafe condition identified in an airplane and ensure operation of that airplane in an airworthy condition, as required by the Federal Aviation Regulations. We have not changed the AD in this regard.

Explanation of Additional Note in the Final Rule

We have included a new Note 2 in this AD (and renumbered subsequent notes accordingly) to provide clarification that a repair is considered any modification that restores the original strength of the cracked part.

Conclusion

We reviewed the relevant data, considered the comment received, and determined that air safety and the public interest require adopting the AD with the change described previously. We also determined that this change will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Explanation of Change to Costs of Compliance

Since issuance of the original NPRM, we have increased the labor rate used in the Costs of Compliance from $80 per work hour to $85 per work hour. The Costs of Compliance information, below, reflects this increase in the specified hourly labor rate.

Costs of Compliance

We estimate that this AD will affect 153 products of U.S. registry. We also estimate that it will take about 3 work-hours per product to comply with the basic requirements of this AD. The average labor rate is $85 per work-hour. Based on these figures, we estimate the cost of this AD to the U.S. operators to be $39,015, or $255 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-06-05 Airbus: Amendment 39-16229. Docket No. FAA-2009-0993; Directorate Identifier 2009-NM-089-AD.

Effective Date

(a) This airworthiness directive (AD) becomes effective April 15, 2010.

Affected ADs

(b) None.

Applicability

(c) This AD applies to Airbus airplanes, certificated in any category, as identified in paragraphs (c)(1) and (c)(2) of this AD.

(1) Model A300 B4-2C, B4-103, and B4-203 airplanes, all serial numbers, modified preventively in service (without preliminary crack findings) in accordance with Airbus Service Bulletin A300-53-0297 (Airbus Modification 10453).

(2) Model A300 B4-601, B4-603, B4-605R, B4-620, B4-622, and B4-622R airplanes, all serial numbers, modified preventively in service (without preliminary crack findings) in accordance with Airbus Service Bulletin A300-57-6053 (Airbus Modification 10453).

Note 1: For airplanes on which Airbus Service Bulletin A300-53-0297 or A300-57-6053 (Airbus Modification 10453), as applicable, has been incorporated as a corrective action (repair following crack finding), no action is required by this AD.

Subject

(d) Air Transport Association (ATA) of America Code 53: Fuselage.

Reason

(e) The mandatory continuing airworthiness information (MCAI) states:

“One A300-600 aeroplane operator reported that, during a routine inspection, the Right Hand frame 40 forward fitting between stringer 32 and stringer 33 was found cracked. The subject aeroplane had previously been modified in accordance with Airbus SB A300-57-6053 (Airbus Modification 10453).

“This condition, if not corrected, could result in a deterioration of the structural integrity of the frame.

“As no fatigue maintenance tasks (Inspection SB or Airworthiness Limitation Item) presently exist to inspect the affected area for aeroplanes having incorporated Airbus Modification 10453 preventively (without preliminary crack finding), Airbus has developed a new inspection [for cracking, and repair if necessary] to ensure structural integrity of the concerned area of frame 40.”

* * * * *

Actions and Compliance

(f) Unless already done, do the following actions.

(1) At the applicable time specified in Table 1 of this AD: Do a one-time detailed visual inspection of the forward fitting at frame 40 on both sides of the airplane, in accordance with Airbus Mandatory Service Bulletin A300-57A6108 (for Model A300 B4-601, B4-603, B4-605R, B4-620, B4-622, and B4-622R airplanes) or A300-53A0387 (for Model A300 B4-2C, B4-103, and B4-203 airplanes), both including Appendices 01 and 02, both dated September 12, 2008.

Table 1—Compliance Times
Airplane models/configuration | Compliance time
A300 B4-2C and B4-103 airplanes on which Airbus Service Bulletin A300-53-0297 was done prior to the accumulation of 9,000 total flight cycles | Prior to the accumulation of 18,000 total flight cycles, or within 3 months after the effective date of this AD, whichever occurs later.
A300 B4-2C and B4-103 airplanes on which Airbus Service Bulletin A300-53-0297 was done on or after the accumulation of 9,000 total flight cycles | Within 5,500 flight cycles after accomplishment of Airbus Service Bulletin A300-53-0297, or within 6 months after the effective date of this AD, whichever occurs later; except, for airplanes that, as of the effective date of this AD, have accumulated 11,000 flight cycles or more since accomplishment of Airbus Service Bulletin A300-53-0297, within 3 months after the effective date of this AD.
A300 B4-203 airplanes on which Airbus Service Bulletin A300-53-0297 was done prior to the accumulation of 8,300 total flight cycles | Prior to the accumulation of 15,000 total flight cycles, or within 3 months after the effective date of this AD, whichever occurs later.
A300 B4-203 airplanes on which Airbus Service Bulletin A300-53-0297 was done on or after the accumulation of 8,300 total flight cycles | Within 4,100 flight cycles after accomplishment of Airbus Service Bulletin A300-53-0297, or within 6 months after the effective date of this AD, whichever occurs later; except, for airplanes that, as of the effective date of this AD, have accumulated 8,200 flight cycles or more since accomplishment of Airbus Service Bulletin A300-53-0297, within 3 months after the effective date of this AD.
A300 B4-601, B4-603, B4-605R, B4-620, B4-622, and B4-622R airplanes on which Airbus Service Bulletin A300-57-6053 was done prior to the accumulation of 6,100 total flight cycles | Prior to the accumulation of 11,500 total flight cycles, or within 3 months after the effective date of this AD, whichever occurs later.
A300 B4-601, B4-603, B4-605R, B4-620, B4-622, and B4-622R airplanes on which Airbus Service Bulletin A300-57-6053 was done on or after the accumulation of 6,100 total flight cycles | Within 3,300 flight cycles after accomplishment of Airbus Service Bulletin A300-57-6053, or within 6 months after the effective date of this AD, whichever occurs later; except, for airplanes that, as of the effective date of this AD, have accumulated 6,600 flight cycles or more since accomplishment of Airbus Service Bulletin A300-57-6053, within 3 months after the effective date of this AD.

(2) Except as required by paragraph (f)(3) of this AD: If any crack is found during the inspection required by paragraph (f)(1) of this AD, before further flight, do a temporary or definitive repair, as applicable, in accordance with the Accomplishment Instructions of Airbus Service Bulletin A300-53-0268, Revision 06, dated January 7, 2002 (for Model A300 B4-2C, B4-103, and B4-203 airplanes); or A300-57-6052, Revision 03, dated May 27, 2002, including Airbus Drawings 15R53810394, Issue A, dated December 21, 1998, and 21R57110247, Issue A, dated June 20, 1997 (for Model A300 B4-601, B4-603, B4-605R, B4-620, B4-622, and B4-622R airplanes).

(3) If any crack found during the inspection required by paragraph (f)(1) of this AD cannot be repaired in accordance with Airbus Service Bulletin A300-53-0268, Revision 06, dated January 7, 2002; or A300-57-6052, Revision 03, dated May 27, 2002: Contact Airbus for repair instructions and before further flight repair the crack using a method approved by the Manager, International Branch, ANM-116, Transport Airplane Directorate, FAA; or the European Aviation Safety Agency (EASA) (or its delegated agent.)

Note 2: A repair is considered any modification that restores the original strength of the cracked part.

(4) Submit an inspection report in accordance with Appendix 01 of Airbus Mandatory Service Bulletin A300-53A0387, dated September 12, 2008 (for Model A300 B4-2C, B4-103, and B4-203 airplanes); or Airbus Mandatory Service Bulletin A300-57A6108, dated September 12, 2008 (for Model A300 B4-601, B4-603, B4-605R, B4-620, B4-622, and B4-622R airplanes); to the address identified on the reporting sheet, at the applicable time specified in paragraph (f)(4)(i) or (f)(4)(ii) of this AD.

(i) If the inspection was done on or after the effective date of this AD: Submit the report within 30 days after the inspection.

(ii) If the inspection was done before the effective date of this AD: Submit the report within 30 days after the effective date of this AD.

FAA AD Differences

Note 3: This AD differs from the MCAI and/or service information as follows: Although the MCAI or Airbus Service Bulletin A300-53-0268, Revision 06, dated January 7, 2002; or A300-57-6052, Revision 03, dated May 27, 2002; allows further flight after cracks are found during compliance with the required action, paragraph (f)(3) of this AD requires that the cracks be repaired before further flight.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to Attn: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI EASA Airworthiness Directive 2009-0094, dated April 21, 2009 (Correction: May 29, 2009), and the applicable service information specified in Table 2 of this AD, for related information.

Table 2—Related Service Information
Document | Revision | Date
Airbus Mandatory Service Bulletin A300-53A0387, including Appendices 01 and 02 | Original | September 12, 2008.
Airbus Mandatory Service Bulletin A300-57A6108, including Appendices 01 and 02 | Original | September 12, 2008.
Airbus Service Bulletin A300-53-0268 | 06 | January 7, 2002.
Airbus Service Bulletin A300-57-6052, including Airbus Drawings 15R53810394, Issue A, dated December 21, 1998, and 21R57110247, Issue A, dated June 20, 1997 | 03 | May 27, 2002.

Material Incorporated by Reference

(i) You must use the service information contained in Table 3 of this AD to do the actions required by this AD, as applicable, unless the AD specifies otherwise.

Table 3—Material Incorporated by Reference
Document | Revision | Date
Airbus Mandatory Service Bulletin A300-53A0387, including Appendices 01 and 02 | Original | September 12, 2008.
Airbus Mandatory Service Bulletin A300-57A6108, including Appendices 01 and 02 | Original | September 12, 2008.
Airbus Service Bulletin A300-53-0268 | 06 | January 7, 2002.
Airbus Service Bulletin A300-57-6052, including Airbus Drawings 15R53810394, Issue A, dated December 21, 1998, and 21R57110247, Issue A, dated June 20, 1997 | 03 | May 27, 2002.

Airbus Service Bulletin A300-53-0268, Revision 06, dated January 7, 2002, has the following effective pages:

Page No. | Revision level shown on page | Date shown on page
1-6, 9, 10, 25-27 | 06 | January 7, 2002.
7, 8, 11-24, 28-84 | 05 | June 9, 2000.

Airbus Service Bulletin A300-57-6052, Revision 03, dated May 27, 2002, has the following effective pages:

Page No. | Revision level shown on page | Date shown on page
1-56 | 03 | May 27, 2002.
DRAWING 15R53810394
1-2 | A | December 21, 1998.
DRAWING 21R57110247
1-2 | A | May 28, 1997.
3-4 | A | June 20, 1997.

(1) The Director of the Federal Register approved the incorporation by reference of this service information under 5 U.S.C. 552(a) and 1 CFR part 51.

(2) For service information identified in this AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on March 4, 2010.
Suzanne Masterson,
Acting Manager, Transport Airplane Directorate, Aircraft Certification Service.

[FR Doc. 2010-5165 Filed 3-10-10; 8:45 am]

BILLING CODE 4910-13-P